DEPARTMENT OF DEFENSE

Department of the Army

Advisory Committee on Arlington National Cemetery; Request for Nominations

AGENCY: Department of the Army, DoD.

ACTION: Notice; request for nominations.

SUMMARY: The Advisory Committee on Arlington National Cemetery is an independent Federal Advisory Committee chartered to provide the Secretary of Defense, through the Secretary of the Army, independent advice and recommendations on Arlington National Cemetery, including, but not limited to cemetery administration, the erection of memorials at the cemetery, and master planning for the cemetery. The Secretary of the Army may act on the Committee's advice and recommendations. The Committee is comprised of no more than nine (9) members. Membership will consist of those individuals with expertise in one or more of the following disciplines: bereavement practices and administrative oversight; organizational management; veterans' services; memorial erection; and master planning for extending the life of a cemetery. The purpose of this notice is to solicit nominations from a wide range of highly qualified persons to be considered for appointment to the Committee. Nominees may be appointed as members of the Committee and its sub-committees for terms of service ranging from one to four years. This notice solicits nominations to fill Committee membership vacancies that may occur through September 30, 2026. Nominees must be preeminent authorities in their respective fields of interest or expertise.

DATES: All nominations must be received (see ADDRESSES) no later than July 1, 2025.

ADDRESSES: Interested persons may submit a resume for consideration by the Department of the Army to the Committee's Alternate Designated Federal Officer at the following address: Advisory Committee on Arlington National Cemetery, ATTN: Alternate Designated Federal Officer (ADFO/Mr. Davis), Arlington National Cemetery, Arlington, VA 22211; and by email at ANC-Advisory-Committee@army.mil.

FOR FURTHER INFORMATION CONTACT: Mr. Matthew R. Davis, Alternate Designated Federal Officer, by telephone (877) 907-8585 or by email at matthew.r.davis.civ@army.mil.

SUPPLEMENTARY INFORMATION: The Advisory Committee on Arlington National Cemetery was established pursuant to title 10, United States Code (U.S.C.) section 7723. The selection, service, and appointment of members of the Committee are publicized in the Committee Charter, available on the Arlington National Cemetery website https://www.arlingtoncemetery.mil/About/Advisory-Committee-on-Arlington-National-Cemetery/Charter. The substance of the provisions of the Charter is as follows:

a. Selection. The Committee Charter provides that the Committee shall be comprised of no more than nine members, all of whom are preeminent authorities in their respective fields of interest or expertise.

By direction of the Secretary of the Army, all resumes submitted in response to this notice will be presented to and reviewed by a panel of three senior Army leaders. Potential nominees shall be prioritized after review and consideration of their resumes for the appropriate qualifications: demonstrated technical and professional expertise; preeminence in a field(s) of interest or expertise; potential contribution to membership balance in terms of the points of view represented and the functions to be performed; potential organizational and financial conflicts of interest; commitment to our Nation's veterans and their families; and published points of view relevant to the objectives of the Committee. The panel will provide the DFO with a prioritized list of potential nominees for consideration by The Executive Director, Army National Military Cemeteries who will make an initial recommendation to the Secretary of the Army. The Secretary of the Army, in consultation with the Special Assistant to the Secretary of Defense for White House Liaison, may request that the Secretary of Veterans Affairs and the Secretary of the American Battle Monuments Commission each nominate one individual for appointment to the ACANC to be considered by the DoD Appointing Authority. The Executive Director, Army National Military Cemeteries; the Secretary of the Army; and the Secretary of Defense are not limited or bound by the recommendations of the Army senior leader panel. Sources in addition to this Federal Register notice may be utilized in the solicitation and selection of nominations. The Secretary of the Army, in informal consultation with the SATSD(WHL), reviews the final list of nominees to choose candidates to be nominated for appointment by the DoD Appointing Authority.

b. Service. The Secretary of Defense may approve the appointment of a Committee member for a one-to-four year term of service; however, no member, unless authorized by the Secretary of Defense, may serve on the Committee or authorized subcommittee for more than two consecutive terms of service. The Secretary of the Army shall designate the Committee Chair/Co-Chair from the total Advisory Committee membership. The Committee meets at the call of the DFO, in consultation with the Committee Chair/Co-Chair. It is estimated that the Committee meets up to three times per year.

c. Appointment. The operations of the Committee and the appointment of members are subject to the Federal Advisory Committee Act (5 U.S.C. ch. 10) and departmental implementing regulations, including Department of Defense Instruction 5105.04, Department of Defense Federal Advisory Committee Management Program, available at https://www.esd.whs.mil/Portals/54/Documents/DD/issuances/dodi/510504p.pdf. Appointed members who are not full-time or permanent part-time Federal officers or employees shall be appointed as experts and consultants under the authority of 5 U.S.C. 3109 and shall serve as special government employees. Committee members appointed as special government employees shall serve without compensation except for reimbursable travel and per diem expenses associated with official Committee activities.

Additional information about the Committee is available on the internet at: https://www.arlingtoncemetery.mil/About/Advisory-Committee-on-Arlington-National-Cemetery/Charter.

James W. Satterwhite Jr.,
Army Federal Register Liaison Officer.

[FR Doc. 2025-09348 Filed 5-22-25; 8:45 am]

BILLING CODE 3711-CC-P